NUCLEAR REGULATORY COMMISSION

Sunshine Federal Register Notice.

AGENCY: Agency Holding the Meetings: Nuclear Regulatory Commission.

DATES: Weeks of March 24, 31, April 7, 14, 21, 28, 2008.

Place: Commissioners' Conference Room, 11555 Rockville Pike, Rockville, Maryland.

Status: Public and Closed.

Matters to be Considered:

Week of March 24, 2008

Thursday, March 27, 2008

9:25 a.m. Affirmation Session (Public Meeting) (Tentative).

a. Pa'ina Hawaii, LLC (Materials License Application) Atomic Safety and Licensing Board's Decision on Environmental Contentions (Dec. 21, 2007) (Tentative).

b. Pacific Gas and Electric Co. (Diablo Canyon ISFSI), Docket No. 72-26-ISFSI, San Luis Obispo Mothers for Peace's Response to NRC Staff's Vaughn Index, Request for Leave to Conduct Discovery Against the NRC Staff, Request for Access to Unredacted Reference Documents, and Request for Procedures to Protect Submission of Sensitive Information (Tentative).

9:30 a.m. Discussion of Management Issues (Closed—Ex. 2)

Week of March 31, 2008—Tentative

There are no meetings scheduled for the Week of March 31, 2008.

Week of April 7, 2008—Tentative

Monday, April 7, 2008

9:30 a.m. Briefing on Digital Instrumentation and Control (Public Meeting) (Contact: Steven Arndt, 301 415-6502).

This meeting will be webcast live at the Web address— http://www.nrc.gov.

Tuesday, April 8, 2008

10 a.m. Joint Meeting of the Federal Energy Regulatory Commission (FERC) and the Nuclear Regulatory Commission (NRC) (Public Meeting).

To be Held at FERC Headquarters, 888 First Street NE., Washington, DC. (Contact: Michelle Schroll, 301 415-1662).

This meeting will be webcast live at the Web address— http://www.ferc.gov.

Wednesday, April 9, 2008

1 p.m. Discussion of Management Issues (Closed—Ex. 2).

Week of April 14, 2008—Tentative

There are no meetings scheduled for the Week of April 14, 2008.

Week of April 21, 2008—Tentative

There are no meetings scheduled for the Week of April 21, 2008.

Week of April 28, 2008—Tentative

Monday, April 28, 2008

9:30 a.m. Briefing on Reactor Materials Issues (Public Meeting) (Contact: Ted Sullivan, 301 415-2796).

This meeting will be webcast live at the Web address— http://www.nrc.gov.

Tuesday, April 29, 2008

1:30 p.m. Meeting with Advisory Committee on the Medical Uses of Isotopes (Public Meeting) (Contact: Ashley Tull, 918-488-0552).

This meeting will be webcast live at the Web address— http://www.nrc.gov.

Wednesday, April 30, 2008

9:30 a.m. Briefing on Materials Licensing and Security (Public Meeting). (Contact: Doug Broaddus, 301 415-8124).

This meeting will be webcast live at the Web address— http://www.nrc.gov.

1:30 p.m. Briefing on NRC Combined Infrastructure (Public Meeting). (Contact: Peter Rabideau, 301 415-7323).

This meeting will be webcast live at the Web address— http://www.nrc.gov.

* * * * *

* The schedule for Commission meetings is subject to change on short notice. To verify the status of meetings, call (recording)—(301) 415-1292. Contact person for more information: Michelle Schroll, (301) 415-1662.

* * * * *

The NRC Commission Meeting Schedule can be found on the Internet at: http://www.nrc.gov/about-nrc/policy-making/schedule.html.

* * * * *

Additional Information

Affirmation of “Pa'ina Hawaii, LLC (Materials License Application) Atomic Safety and Licensing Board's Decision on Environmental Contentions (Dec. 21, 2007) (Tentative)”; and “Pacific Gas and Electric Co. (Diablo Canyon ISFSI), Docket No. 72-26-ISFSI, San Luis Obispo Mothers for Peace's Response to NRC Staff's Vaughn Index, Request for Leave to Conduct Discovery Against the NRC Staff, Request for Access to Unredacted Reference Documents, and Request for Procedures To Protect Submission of Sensitive Information (Tentative)” previously scheduled on Monday, March 17, 2008 at 12:55 p.m. has been rescheduled on Thursday, March 27, 2008 at 9:25 a.m.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to: dkw@nrc.gov.

Dated: March 20, 2008.
R. Michelle Schroll,
Office of the Secretary.

[FR Doc. 08-1071 Filed 3-21-08; 11:21 am]

BILLING CODE 7590-01-P